DEPARTMENT OF HOUSING AND URBAN DEVELOPMENT

[Docket No. FR-5900-FA-06]

Announcement of Funding Awards for HUD's Fiscal Year 2015 Community Compass Technical Assistance and Capacity Building

AGENCY: Office of the Assistant Secretary for Community Planning and Development, HUD.

ACTION: Notice of Funding Awards.

SUMMARY: In accordance with section 102(a)(4)(C) of the Department of Housing and Urban Development Reform Act of 1989, this announcement notifies the public of funding decisions made by the Department in a competition for funding under the Notice of Funding Availability (NOFA) for the HUD Community Compass Technical Assistance and Capacity Building program for Fiscal Year 2015. This announcement contains the names of the awardees and amounts of the awards made available by HUD.

FOR FURTHER INFORMATION CONTACT: Lauren Deigh, Acting Director, Technical Assistance Division, Office of Community Planning and Development, 451 Seventh Street SW., Room 7218, Washington, DC 20410-7000; telephone (202) 402-2197 (this is not a toll-free number). Persons with speech or hearing impairments may access this telephone number via TTY by calling the toll-free Federal Relay Service during working hours at 800-877-8339. For general information on this and other HUD programs visit the HUD Web site at http://www.hud.gov.

SUPPLEMENTARY INFORMATION: The goal of Community Compass is to empower communities by providing effective technical assistance and capacity building so that successful program implementation is sustained over the long term.

Recognizing that HUD's customers often interact with a variety of HUD programs as they deliver housing or community development services, Community Compass brings together technical assistance investments from across HUD program offices, including but not limited to the Office of Community Planning and Development, the Office of Housing, and the Office of Public and Indian Housing.

The competition was announced in the NOFA published on August 12, 2015, (FR-5900-06) and closed on September 25, 2015. The NOFA allowed for approximately $44,125,000.00 million for HUD Community Compass Technical Assistance and Capacity Building awards. Applications were rated and selected for funding on the basis of selection criteria contained in the Notice. For the Fiscal Year 2015 competition, awards totaling $44,125,000.00 were awarded to 23 different technical assistance providers nationwide.

In accordance with section 102(a)(4)(C) of the Department of Housing and Urban Development Reform Act of 1989 (103 Stat. 1987, 42 U.S.C. 3545), the Department is publishing the awardees and the amounts of the awards in Appendix A to this document.

Dated: February 23, 2016.
Clifford Taffet,
General Deputy Assistant Secretary for Community Planning and Development.

Appendix A

Fiscal Year 2015
[HUD Community Compass Technical Assistance and Capacity Awards]
Recipient | City | State | Amount
Abt Associates, Inc | Cambridge | MA | ($)9,100,000
HomeBase/The Center for Common Concerns | San Francisco | CA | 1,700,000
American Institutes for Research | Washington | DC | 800,000
Association of Alaska Housing Authorities | Anchorage | AK | 600,000
Collaborative Solutions, Inc | Birmingham | AL | 1,325,000
Cloudburst Consulting Group, Inc | Landover | MD | 4,800,000
Corporation for Supportive Housing | New York | NY | 675,000
CVR Associates, Inc | Tampa | FL | 1,200,000
Econometrica, Inc | Bethesda | MD | 2,200,000
Enterprise Community Partners, Inc | Columbia | MD | 2,075,000
FirstPic, Inc | Gambrills | MD | 2,000,000
ICF Incorporated, LLC | Fairfax | VA | 11,225,000
National Association for Latino Comm. Asset Bldrs | San Antonio | CA | 550,000
First Nations Development Institute | Longmont | CO | 275,000
National American Indian Housing Council | Washington | DC | 2,875,000
National Council for Community Development, Inc | New York | NY | 250,000
TDA Consulting, Inc | Laurinburg | NC | 500,000
Technical Assistance Collaborative, Inc | Boston | MA | 500,000
The Partnership Center, Ltd | Cincinnati | OH | 525,000
Innovative Emergency Management, Inc | Morrisville | NC | 250,000
Corporate F.A.C.T.S., Inc | Plymouth | MI | 250,000
Fair Housing Council of Riverside County, Inc | Riverside | CA | 250,000
Rural Community Assistance Corporation | W. Sacramento | CA | 200,000
Total |  |  | $44,125,000

[FR Doc. 2016-04626 Filed 3-1-16; 8:45 am]

BILLING CODE 4210-67-P